DEPARTMENT OF ENERGY

[OE Docket No. EA-185-E]

Application To Export Electric Energy; Morgan Stanley Capital Group Inc.

AGENCY: Office of Electricity, Department of Energy.

ACTION: Notice of application.

SUMMARY: Morgan Stanley Capital Group Inc. (Applicant or MSCG) has applied for authorization to transmit electric energy from the United States to Canada pursuant to the Federal Power Act.

DATES: Comments, protests, or motions to intervene must be submitted on or before July 6, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On July 8, 2015, DOE issued Order No. EA-185-D, which authorized MSCG to transmit electric energy from the Unites States to Canada as a power marketer for a five-year term using existing international transmission facilities appropriate for open access. This authorization expires on August 21, 2020. On May 21, 2020, MSCG filed an application (Application or App.) with DOE for renewal of the export authorization contained in Order No. EA-185-D.

MSCG states that it “is a Delaware corporation with its principal place of business in New York, New York” and that it “is an indirect, wholly-owned subsidiary of Morgan Stanley.” App. at 2. MSCG adds that it “does not directly own or control any electric generation or transmission facilities, nor does it hold a franchise or service territory for the transmission, distribution, or sale of electric power.” Id. at 3.

MSCG further states that it “has purchased, or will purchase, the power that may be exported to Canada from wholesale generators, electric utilities, and federal power marketing agencies.” App. at 6-7. MSCG contends that its proposed exports “will not impair the sufficiency of electric supply within the United States” and “will neither impede nor tend to impede” the operational reliability of the bulk power system. Id. at 1-2.

The existing international transmission facilities to be utilized by the Applicant have previously been authorized by Presidential permits issued pursuant to Executive Order 10485, as amended, and are appropriate for open access transmission by third parties.

PROCEDURAL MATTERS: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning MSCG's application to export electric energy to Canada should be clearly marked with OE Docket No. EA-185-E. Additional copies are to be provided directly to Edward Zabrocki, 1633 Broadway, 29th Floor, New York, NY 10019, Ed.Zabrocki@morganstanley.com; Daniel E. Frank, 700 Sixth St. NW, Suite 700, Washington, DC 20001-3980, danielfrank@eversheds-sutherland.com; and Martha M. Hopkins, 700 Sixth St. NW, Suite 700, Washington, DC 20001-3980, martyhopkins@eversheds-sutherland.com.

A final decision will be made on this Application after the environmental impacts have been evaluated pursuant to DOE's National Environmental Policy Act Implementing Procedures (10 CFR part 1021) and after DOE determines that the proposed action will not have an adverse impact on the sufficiency of supply or reliability of the U.S. electric power supply system.

Copies of this Application will be made available, upon request, by accessing the program website at http://energy.gov/node/11845, or by emailing Matthew Aronoff at matthew.aronoff@hq.doe.gov.

Signed in Washington, DC, on May 29, 2020.
Christopher Lawrence,
Management and Program Analyst, Transmission Permitting and Technical Assistance, Office of Electricity.

[FR Doc. 2020-11995 Filed 6-3-20; 8:45 am]

BILLING CODE 6450-01-P